DEPARTMENT OF ENERGY

Federal Energy Regulatory Commission

Combined Notice of Filings #2

Take notice that the Commission received the following electric corporate filings:

Docket Numbers: EC16-64-000.

Applicants: Southwestern Public Service Company, Xcel Energy Southwest Transmission Company, LLC.

Description: Joint Application for Authorization for Disposition of Jurisdictional Transmission Facilities of Southwestern Public Service Company and Xcel Energy Southwest Transmission Company, LLC.

Filed Date: 1/28/16.

Accession Number: 20160128-5164.

Comments Due: 5 p.m. ET 2/18/16.

Take notice that the Commission received the following electric rate filings:

Docket Numbers: ER15-1061-002.

Applicants: New York Independent System Operator, Inc.

Description: Compliance filing: Compliance establish effective date—CSP Project to be effective 2/11/2016.

Filed Date: 1/28/16.

Accession Number: 20160128-5156.

Comments Due: 5 p.m. ET 2/18/16.

Docket Numbers: ER16-791-000.

Applicants: Southwest Power Pool, Inc.

Description: § 205(d) Rate Filing: Settlement Revenue Distribution Mechanism to be effective 2/1/2016.

Filed Date: 1/27/16.

Accession Number: 20160127-5475.

Comments Due: 5 p.m. ET 2/17/16.

Docket Numbers: ER16-800-000.

Applicants: Southwestern Public Service Company.

Description: § 205(d) Rate Filing: 2016-1-28_JD_SPS-XEST-O&M-679-0.0.0—Filing to be effective 12/31/9998.

Filed Date: 1/28/16.

Accession Number: 20160128-5147.

Comments Due: 5 p.m. ET 2/18/16.

Docket Numbers: ER16-801-000.

Applicants: Southwest Power Pool, Inc.

Description: § 205(d) Rate Filing: 2900R5 KMEA NITSA NOA to be effective 1/1/2016.

Filed Date: 1/28/16.

Accession Number: 20160128-5197.

Comments Due: 5 p.m. ET 2/18/16.

Docket Numbers: ER16-802-000.

Applicants: Southwest Power Pool, Inc.

Description: § 205(d) Rate Filing: 2236R7 Golden Spread Electric Cooperative, Inc. NITSA NOA to be effective 1/1/2016.

Filed Date: 1/28/16.

Accession Number: 20160128-5206.

Comments Due: 5 p.m. ET 2/18/16.

Docket Numbers: ER16-803-000.

Applicants: Wisconsin Electric Power Company.

Description: Tariff Cancellation: Cancellation of Wisconsin Electric/WPPI FRT Service Agreement No 2 to be effective 1/1/2016.

Filed Date: 1/28/16.

Accession Number: 20160128-5239.

Comments Due: 5 p.m. ET 2/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2016.
Nathaniel J. Davis, Sr.,
Deputy Secretary.

[FR Doc. 2016-01951 Filed 2-2-16; 8:45 am]

BILLING CODE 6717-01-P